DEPARTMENT OF AGRICULTURE

Animal and Plant Health Inspection Service

[Docket No. APHIS-2013-0007]

Notice of Availability of a Treatment Evaluation Document; Methyl Bromide Fumigation of Blueberries

AGENCY: Animal and Plant Health Inspection Service, USDA.

ACTION: Notice of availability.

SUMMARY: We are advising the public that we have determined that it is necessary to immediately add to the Plant Protection and Quarantine Treatment Manual an additional treatment schedule for methyl bromide fumigation of blueberries for Mediterranean fruit fly and South American fruit fly. We have prepared a treatment evaluation document that describes the new treatment schedule and explains why we have determined that it is effective at neutralizing these fruit flies. We are making the treatment evaluation document available to the public for review and comment.

DATES: We will consider all comments that we receive on or before August 19, 2013.

ADDRESSES: You may submit comments by either of the following methods:

• Federal eRulemaking Portal: Go to http://www.regulations.gov/#!documentDetail;D=APHIS-2013-0007-0001.

• Postal Mail/Commercial Delivery: Send your comment to Docket No. APHIS-2013-0007, Regulatory Analysis and Development, PPD, APHIS, Station 3A-03.8, 4700 River Road Unit 118, Riverdale, MD 20737-1238.

Supporting documents and any comments we receive on this docket may be viewed at http://www.regulations.gov/#!docketDetail;D=APHIS-2013-0007 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Inder P.S. Gadh, Senior Risk Manager—Treatments, PPQ, APHIS, 4700 River Road Unit 133, Riverdale, MD 20737; (301) 851-2018.

SUPPLEMENTARY INFORMATION:

Background

The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (b) sets out the process for adding, revising, or removing treatment schedules when there is an immediate need to make a change. The circumstances in which an immediate need exists are described in § 305.3(b)(1). They are:

¹ The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

A treatment schedule currently listed in the PPQ Treatment Manual (T101-i-1-1) requires blueberries to be treated with methyl bromide at 70 °F or above using 2 lbs gas/1,000 ft³ for 3.5 hours at normal atmospheric pressure whether in chambers or under tarpaulin to mitigate risk from two fruit fly species, Ceratitis capitata (Mediterranean fruit fly, or Medfly) and Anastrepha fraterculus (South American fruit fly). Because the 70 °F-or-above requirement has presented an undue economic hardship for the exporters, in 2009 Argentina requested and subsequently provided the supporting efficacy data for the Animal and Plant Health Inspection Service (APHIS) to approve a new methyl bromide treatment to be applied in chambers at a lower temperature (59 °F or above) for control of Medfly and South American fruit fly. After reviewing the data provided, APHIS found the results to be acceptable with a slight modification of temperature.

In accordance with § 305.3(a)(1), we are providing notice that we have determined that it is necessary to add treatment schedule T101-i-1-2, which provides for a methyl bromide treatment schedule for blueberries at a temperature of 60 °F at a dosage rate of 2 lbs gas/1,000 ft³ for an exposure period of 3.5 hours in a chamber. In order to have minimum adverse impact on the on-going trade of blueberries and using the immediate process as provided in § 305.3(b), this change is effective immediately upon publication of this notice. This treatment schedule will be listed in a separate section of the PPQ Treatment Manual, which will indicate that T101-i-1-2 was added through the immediate process described in paragraph (b) of § 305.3 and that it is subject to change or removal based on public comment.

The reasons for the addition of this treatment schedule are described in detail in a treatment evaluation document we have prepared to support this action. The treatment evaluation document may be viewed on the Regulations.gov Web site or in our reading room (see ADDRESSES above for instructions for accessing Regulations.gov and information on the location and hours of the reading room). You may request paper copies of the treatment evaluation document by calling or writing to the person listed under FOR FURTHER INFORMATION CONTACT. Please refer to the subject of the treatment evaluation document when requesting copies.

After reviewing the comments we receive, we will announce our decision regarding the new treatment schedule that is described in the treatment evaluation document in a subsequent notice, in accordance with paragraph (b)(3) of § 305.3. If we do not receive any comments, or the comments we receive do not change our determination that the treatment is effective, we will affirm the treatment schedule's addition to the PPQ Treatment Manual and make available a new version of the PPQ Treatment Manual in which T101-i-1-2 is listed in the main body of the PPQ Treatment Manual. If we receive comments that cause us to determine that T101-i-1-2 needs to be changed or removed, we will make available a new version of the PPQ Treatment Manual that reflects changes to or the removal of T101-i-1-2.

Authority: 7 U.S.C. 7701-7772 and 7781-7786; 21 U.S.C. 136 and 136a; 7 CFR 2.22, 2.80, and 371.3.

Done in Washington, DC, this 12th day of June 2013.
Kevin Shea,
Acting Administrator, Animal and Plant Health Inspection Service.

[FR Doc. 2013-14468 Filed 6-17-13; 8:45 am]

BILLING CODE 3410-34-P